DEPARTMENT OF JUSTICE

Antitrust Division

Notice Pursuant to the National Cooperative Research and Production Act of 1993—NPES the Association for Suppliers of Printing, Publishing and Converting Technologies

Notice is hereby given that, on September 17, 2004, pursuant to Section 6(a) of the National Cooperative Research and Production Act of 1993, 15 U.S.C. 4301 et seq. (“the Act”), NPES The Association for Suppliers of Printing, Publishing and Converting Technologies (“NPES”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: NPES The Association for Suppliers of Printing, Publishing and Converting Technologies, Reston, VA. The nature and scope of NPES's standards development activities are: Coordination of the development of national and international consensus and safety standards for the printing, publishing and converting industries.

Dorothy B. Fountain,
Deputy Director of Operations, Antitrust Division.

[FR Doc. 04-22886 Filed 10-12-04; 8:45 am]

BILLING CODE 4410-11-M